NUCLEAR REGULATORY COMMISSION

[Docket No. 030-20681]

Notice of Availability of Environmental Assessment and Finding of No Significant Impact for License Amendment for E.I. Du Pont de Nemours and Company, Inc.'s Facility in Newark, DE

AGENCY: Nuclear Regulatory Commission.

ACTION: Notice of availability.

FOR FURTHER INFORMATION CONTACT: Kathy Dolce Modes, Materials Security & Industrial Branch, Division of Nuclear Materials Safety, Region I, 475 Allendale Road, King of Prussia, Pennsylvania, 19406, telephone (610) 337-5251, fax (610) 337-5269; or by e-mail: kad@nrc.gov.

SUPPLEMENTARY INFORMATION:

I. Introduction

The Nuclear Regulatory Commission (NRC) is considering the issuance of a license amendment to E. I. du Pont de Nemours and Company, Inc. for Materials License No. 07-13441-02, to authorize release of its Delaware Technology Park facility in Newark, Delaware for unrestricted use. NRC has prepared an Environmental Assessment (EA) in support of this action in accordance with the requirements of 10 CFR part 51. Based on the EA, the NRC has concluded that a Finding of No Significant Impact (FONSI) is appropriate. The amendment will be issued following the publication of this Notice.

II. EA Summary

The purpose of the proposed action is to authorize the release of the licensee's Delaware Technology Park facility in Newark, Delaware for unrestricted use. The licensee's Delaware Technology Park facility was added to their NRC license on August 8, 1997, to use radioactive materials for research and development purposes. On July 16, 2004, E.I. du Pont de Nemours and Company, Inc. requested that NRC release the Delaware Technology Park facility for unrestricted use. E.I. du Pont de Nemours and Company, Inc. has conducted surveys of the facility and determined that the facility meets the license termination criteria in subpart E of 10 CFR part 20. E.I. du Pont de Nemours and Company, Inc. will continue licensed activities at another location, as authorized by the license.

The NRC staff has prepared an EA in support of the proposed license amendment. The facility was remediated and surveyed prior to the licensee requesting the license amendment. The NRC staff has reviewed the information and final status survey submitted by E.I. du Pont de Nemours and Company, Inc. Based on its reviews, the staff has determined that there are no additional remediation activities necessary to complete the proposed action. Therefore, the staff considered the impact of the residual radioactivity at the facility and concluded that since the residual radioactivity meets the requirements in subpart E of 10 CFR part 20, a Finding of No Significant Impact is appropriate.

III. Finding of No Significant Impact

The staff has prepared the EA (summarized above) in support of the proposed license amendment to release the facility for unrestricted use. The NRC staff has evaluated E. I. du Pont de Nemours and Company, Inc.'s request and the results of the surveys and has concluded that the completed action complies with the criteria in subpart E of 10 CFR part 20. The staff has found that the environmental impacts from the proposed action are bounded by the impacts evaluated by NUREG-1496, Volumes 1-3, “Generic Environmental Impact Statement in Support of Rulemaking on Radiological Criteria for License Termination of NRC-Licensed Facilities' (ML042310492, ML042320379, and ML042330385). On the basis of the EA, the NRC has concluded that the environmental impacts from the proposed action are expected to be insignificant and has determined not to prepare an environmental impact statement for the proposed action.

IV. Further Information

Documents related to this action, including the application for the license amendment and supporting documentation, are available electronically at the NRC's Agencywide Document Access and Management System (ADAMS), which provides text and image files of NRC's public documents. The ADAMS accession numbers for the documents related to this Notice are: ML043000055 (the Environmental Assessment), ML042110242 (Initial Request), ML042660405 (Decommissioning Report), and ML042790369 (Decommissioning Report—Revision 1). On October 25, 2004, the NRC terminated public access to ADAMS and initiated an additional security review of publicly available documents to ensure that potentially sensitive information is removed from the ADAMS database accessible through the NRC's web site. Interested members of the public may obtain copies of the referenced documents for review and/or copying by contacting the Public Document Room (PDR) pending resumption of public access to ADAMS. The NRC Public Documents Room is located at NRC Headquarters in Rockville, MD, and can be contacted at (800) 397-4209, (301) 415-4737 or by e-mail to: pdr@nrc.gov.

These documents may also be viewed electronically on the public computers located at the NRC's PDR, O 1 F21, One White Flint North, 11555 Rockville Pike, Rockville, MD 20852. The PDR reproduction contractor will copy documents for a fee.

Dated at King of Prussia, Pennsylvania, this 16th day of November, 2004.
For The Nuclear Regulatory Commission.
John D. Kinneman,
Chief, Materials Security & Industrial Branch, Division of Nuclear Materials Safety, Region I.

[FR Doc. 04-25904 Filed 11-22-04; 8:45 am]

BILLING CODE 7590-01-P